DEPARTMENT OF THE INTERIOR

Bureau of Land Management

[LLORP00000.L10200000.PI0000; HAG11-0061]

Notice of Public Meeting, John Day/Snake Resource Advisory Council

AGENCY: Bureau of Land Management, Interior.

ACTION: Meeting notice for the John Day/Snake Resource Advisory Council.

SUMMARY: Pursuant to the Federal Land Policy and Management Act and the Federal Advisory Committee Act, the U.S. Department of the Interior, Bureau of Land Management (BLM) John Day-Snake Resource Advisory Council (JDSRAC) will meet as indicated below.

DATES: The JDSRAC meeting will begin at 8 a.m. (Pacific) on November 30, 2010.

ADDRESSES: The JDSRAC will meet at the Umatilla National Forest Headquarters located at 2517 SW Hailey Avenue, Pendleton, Oregon 97801. For a copy of material to be discussed or the conference call number, please contact the BLM Prineville District at the address below.

SUPPLEMENTARY INFORMATION: The JDSRAC will conduct a public meeting to discuss several topics, including the Blue Mountain Forest Plan Revision alternatives, recent information on Sage-grouse and wolf management; set goals for 2011 in a strategic planning session, and hear a presentation by Portland General Electric on the proposed Cascade Crossing Transmission Project. Public comment is scheduled from 1 p.m. to 1:15 p.m. (Pacific) November 30, 2010, during the Council Meeting. For a copy of information distributed to JDSRAC members, please contact the BLM Prineville District Office at (541) 416-6700 or at the address listed below.

FOR FURTHER INFORMATION CONTACT: Christina Lilienthal, Public Affairs Specialist, BLM Prineville District Office, 3050 NE Third, Prineville, Oregon 97754, (541) 416-6889 or e-mail: christina_lilienthal@blm.gov.

Stephen R. Robertson,
Associate District Manager, BLM Prineville District Office.

[FR Doc. 2010-28602 Filed 11-12-10; 8:45 am]

BILLING CODE 4310-33-P